DEPARTMENT OF AGRICULTURE

Agricultural Marketing Service

7 CFR Part 959

[Docket No. AMS-FV-14-0076; FV14-959-2 CR]

Onions Grown in South Texas; Continuance Referendum

AGENCY: Agricultural Marketing Service, USDA.

ACTION: Referendum order.

SUMMARY: This document directs that a referendum be conducted among eligible producers of onions grown in South Texas to determine whether they favor continuance of the marketing order that regulates the handling of onions produced in the production area. This is the second referendum being conducted this year; the first was conducted in May 2014. The results of the first referendum revealed that the producer list used to mail ballots was not updated; consequently, USDA has determined that a second referendum should be conducted using an updated producer list to ensure all eligible producers have an opportunity to vote on whether to continue their Federal marketing order.

DATES: The referendum will be conducted from November 3 through November 17, 2014. To vote in this referendum, producers must have produced onions within the designated production area in Texas during the period of August 1, 2012, through July 31, 2013.

ADDRESSES: Copies of the marketing order may be obtained from the referendum agents at 1124 First Street South, Winter Haven, FL 33880, or the Office of the Docket Clerk, Marketing Order and Agreement Division, Fruit and Vegetable Program, AMS, USDA, 1400 Independence Avenue SW., STOP 0237, Washington, DC 20250-0237; Fax: (202) 720-8938; or Internet: www.regulations.gov.

FOR FURTHER INFORMATION CONTACT: Doris Jamieson, Marketing Specialist, or Christian D. Nissen, Regional Director, Southeast Marketing Field Office, Marketing Order and Agreement Division, Fruit and Vegetable Program, AMS, USDA, 1124 First Street South, Winter Haven, FL 33880; Telephone: (863) 324-3375, Fax: (863) 325-8793, or Email: Doris.Jamieson@ams.usda.gov or Christian.Nissen@ams.usda.gov.

SUPPLEMENTARY INFORMATION: Pursuant to Marketing Order No. 959, as amended (7 CFR Part 959), hereinafter referred to as the “order,” and the applicable provisions of the Agricultural Marketing Agreement Act of 1937, as amended (7 U.S.C. 601-674), hereinafter referred to as the “Act,” it is hereby directed that a referendum be conducted to ascertain whether continuance of the order is favored by the producers. The referendum shall be conducted from November 3 through November 17, 2014, among onion producers in the production area. Only Texas onion producers that were engaged in the production of onions grown in South Texas during the period of August 1, 2012, through July 31, 2013, may participate in the continuance referendum.

Section 959.84 of the order requires USDA to conduct a continuance referendum every six years. The May 2014 referendum (79 FR 14440) was the first to be conducted since adding this requirement to the order on February 29, 2008. During the subsequent tabulation of the May 2014 referendum ballots, USDA learned that the producer list used to mail the ballots was not accurate. As a result, USDA has determined that a second referendum should be conducted using an updated producer list, thereby ensuring all eligible producers have an opportunity to vote on the future of the marketing order.

USDA has determined that continuance referenda are an effective means for determining whether producers favor the continuation of marketing order programs. USDA would consider termination of the order if fewer than two-thirds of the producers voting in the referendum and producers of less than two-thirds of the volume of onions grown in South Texas represented in the referendum favor continuance. In evaluating the merits of continuance versus termination, USDA will consider the results of the continuance referendum. USDA will also consider all other relevant information concerning the operation of the order and the relative benefits and disadvantages to producers, handlers, and consumers in determining whether continued operation of the order would tend to effectuate the declared policy of the Act.

In accordance with the Paperwork Reduction Act of 1995 (44 U.S.C. 3501-3520), the ballot materials to be used in the referendum have been submitted to and approved by the Office of Management and Budget (OMB) and have been assigned OMB No. 0581-0178, Vegetable and Specialty Crop Marketing Orders. It has been estimated that it will take an average of 20 minutes for each of the approximately 55 producers of onions grown in South Texas to cast a ballot. Participation is voluntary. Ballots postmarked after November 17, 2014, will not be included in the vote tabulation.

Doris Jamieson and Christian D. Nissen of the Southeast Marketing Field Office, Fruit and Vegetable Program, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR 900.400-900.407).

Ballots will be mailed to all producers of record and may also be obtained from the referendum agents, or from their appointees.

List of Subjects in 7 CFR Part 959

Marketing agreements, Onions, Reporting and recordkeeping requirements.

Authority: 7 U.S.C. 601-674.

Dated: October 23, 2014.
Rex A. Barnes,
Associate Administrator, Agricultural Marketing Service.

[FR Doc. 2014-25653 Filed 10-28-14; 8:45 am]

BILLING CODE P